DEPARTMENT OF TRANSPORTATION

Federal Aviation Administration

14 CFR Part 39

[Docket No. FAA-2005-20712; Directorate Identifier 2005-CE-15-AD]

RIN 2120-AA64

Airworthiness Directives; Raytheon Aircraft Company, Model 390, Premier 1 Airplanes

AGENCY: Federal Aviation Administration (FAA), DOT.

ACTION: Notice of proposed rulemaking (NPRM).

SUMMARY: The FAA proposes to adopt a new airworthiness directive (AD) for certain Raytheon Aircraft Company (Raytheon), Model 390, Premier 1 airplanes. For certain airplanes, this proposed AD would require you (unless already done) to replace the plastic cover over the air conditioning motor module with a metallic cover and modify the air conditioning compressor motor module electromagnetic interference-radio frequency interference (EMI-RFI) filter located under the cover and reidentify the module part number. For all airplanes, the proposed AD would limit future installations of the cover for the air conditioner and the air conditioning compressor motor module. This proposed AD results from reports that the plastic cover over the air conditioning motor module was found melted or burned and that the overheating of the EMI-RFI filter assembly located under the cover caused this damage. We are issuing this proposed AD to prevent the melting or burning of the plastic cover. The burning of the plastic cover could result in a fire.

DATES: We must receive any comments on this proposed AD by October 21, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Raytheon Aircraft Company, PO Box 85, Wichita, Kansas 67201-0085; telephone: (800) 625-7043.

To view the comments to this proposed AD, go to http://dms.dot.gov. The docket number is FAA-2005-20712; Directorate Identifier 2005-CE-15-AD.

FOR FURTHER INFORMATION CONTACT: Philip Petty, Aerospace Engineer, ACE-119W, Wichita Aircraft Certification Office, 1801 Airport Road, Room 100, Wichita, Kansas 67209; telephone: (316) 946-4139; facsimile: (316) 946-4107.

SUPPLEMENTARY INFORMATION:

Comments Invited

How do I comment on this proposed AD? We invite you to submit any written relevant data, views, or arguments regarding this proposal. Send your comments to an address listed under ADDRESSES. Include the docket number, “FAA-2005-20712; Directorate Identifier 2005-CE-15-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2005-20712; Directorate Identifier 2005-CE-15-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The FAA has received reports that the plastic cover over the air conditioning motor module for certain Raytheon Aircraft Company (Raytheon), Model 390, Premier 1 airplanes was found melted or burned. The overheating of the electromagnetic interference-radio frequency interference (EMI-RFI) filter assembly located under the plastic cover caused this damage.

Raytheon has developed two partial fixes that together remedy the problem. In February 2005, Raytheon implemented a partial fix to the problem with a service bulletin for the replacement of the plastic cover with a manufactured or a field fabricated metal cover. Raytheon, in June 2005, issued a service bulletin for the modification of the EMI-RFI filter assembly.

What is the potential impact if FAA took no action? The burning of the plastic cover could result in a fire.

Is there service information that applies to this subject? Raytheon has issued:

—Service Bulletin No. SB 21-3715, dated February 2005: Includes procedures for replacing the plastic cover over the air conditioning motor module with a metallic cover (part number ((P/N) 390-555015-0001) and doing the field fabrication of the metallic cover (P/N 390-555015-0001); and

—Service Bulletin No. SB 21-3733, dated June 2005: This Raytheon service bulletin includes Enviro Systems Inc. Service Bulletin No. SB05-101, Revision B, dated April 27, 2005. These service bulletins include procedures for doing the modification of the air conditioning compressor motor module EMI-RFI filter and reidentifying the module part number.

FAA's Determination and Requirements of This Proposed AD

What has FAA decided? We have evaluated all pertinent information and identified an unsafe condition that is likely to exist or develop on other products of this same type design. For this reason, we are proposing AD action.

What would this proposed AD require? This proposed AD would require you to:

—Replace the plastic cover over the air conditioning motor module with a metallic cover (P/N 390-555015-0001) for certain airplanes;

—Modify the air conditioning compressor motor module EMI-RFI filter and reidentify the module part number for certain airplanes; and

—Limit future installations of the cover for the air conditioner and the air conditioning compressor motor module for all airplanes.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 100 airplanes in the U.S. registry.

What would be the cost impact of this proposed AD on owners/operators of the affected airplanes? We estimate the following costs to do this proposed replacement of the plastic cover with a new manufactured metallic cover (P/N 390-555015-0001, or FAA-approved equivalent part number) that you buy:

Labor cost | Parts cost | Total cost per airplane | Total cost on U.S. operators
1 work hour × $65 = $65 | $600 | $665 | $66,500

We estimate the following costs to do the field fabrication of the metallic cover (P/N 390-555015-0001) if you choose not to buy a new metallic cover and the proposed labor for the replacement of the plastic cover:

Labor cost | Parts cost | Total cost per airplane | Total cost on U.S. operators
16 work hour × $65 = $1,040 | $20 | $1,060 | $106,000

We estimate the following costs to modify the air conditioning compressor motor module EMI-RFI filter and reidentify the module part number:

Labor cost | Parts cost | Total cost per airplane | Total cost on U.S. operators
2 work hours × $65 = $130 | $600 | $730 | $73,000

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-20712; Directorate Identifier 2005-CE-15-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. FAA-2005-20712; Directorate Identifier 2005-CE-15-AD

When Is the Last Date I Can Submit Comments on This Proposed AD?

(a) We must receive comments on this proposed airworthiness directive (AD) by October 21, 2005.

What Other ADs Are Affected by This Action?

(b) None.

What Airplanes Are Affected By This AD?

(c) This AD applies to the following airplane models and serial numbers that are certificated in any category:

(1) Group 1: Raytheon Aircraft Company, Model 390, Premier 1 Airplanes, serial numbers RB-1, RB-4 through RB-101, RB-103 through RB-119, and RB-121, that have not replaced the plastic cover over the compressor motor module with a metallic one (part number (P/N) 390-555015-0001, or FAA-approved equivalent part number).

(2) Group 2: Raytheon Aircraft Company, Model 390, Premier 1 Airplanes, serial numbers RB-1, RB-4 through RB-101, RB-103 through RB-119, and RB-121, that have installed the metallic cover (P/N 390-555015-0001, or FAA-approved equivalent part number).

(3) Group 3: Raytheon Aircraft Company, Model 390, Premier 1 Airplanes, serial numbers RB-120 and RB-122 through RB-129.

What Is the Unsafe Condition Presented in This AD?

(d) This AD is the result of reports that the plastic cover over the air conditioning motor module was found melted or burned and that the overheating of the electromagnetic interference-radio frequency interference (EMI-RFI) filter assembly located under the cover caused this damage. The actions specified in this AD are intended to prevent the melting or burning of the plastic cover. The burning of the plastic cover could result in a fire.

What Must I Do To Address This Problem?

(e) What actions must I do to address this problem for Group 1 airplanes? To address this problem for Group 1 airplanes, you must do the following:

Actions | Compliance | Procedures
(1) Air Conditioning Motor Module Cover Replacement: Replace the plastic cover over the air conditioning motor module with a new or fabricated metallic cover. You may use Raytheon part number (P/N) 390-555015-0001 | Within 30 days after the effective date of this AD, unless already done | Follow Raytheon Aircraft Company Service Bulletin No. SB 21-3715, dated February 2005.
(2) Air Conditioning Compressor Motor Module EMI-RFI Filter Modification: Modify the air conditioning motor module EMI-RFI filter and reidentify the module part number with a P/N 390-385026-0003 module | Within 30 days after the effective date of this AD, unless already done | Follow Raytheon Aircraft Company Service Bulletin No. SB 21-3733, dated June 2005; and Enviro Systems Inc. Service Bulletin No. SB05-101, Revision B, dated April 27, 2005.
(3) Future Installations—Cover for Air Conditioner: You must only install a metal cover over the air conditioning motor module. This is mandatory equipment | As of the effective date of this AD | Follow Raytheon Aircraft Company Service Bulletin No. SB 21-3715, dated February 2005.
(4) Future Installations—Air Conditioning Compressor Motor Module: Do not install any compressor motor module, P/N 390-385026-0001 | As of the effective date of this AD | Not Applicable.

(f) What actions must I do to address this problem for Group 2 airplanes? To address this problem for Group 2 airplanes, you must do the following:

Actions | Compliance | Procedures
(1) Air Conditioning Compressor Motor Module EMI-RFI Filter Modification: Modify the air conditioning motor module EMI-RFI filter and reidentify the module part number with a P/N 390-385026-0003 module | Within 60 days after the effective date of this AD, unless already done | Follow Raytheon the Aircraft Company Service Bulletin No. SB 21-3733, dated June 2005; and Enviro Systems Inc. Service Bulletin No. SB05-101, Revision B, dated April 27, 2005.
(2) Future Installations—Cover for Air Conditioner: You must only install a metal cover over the air conditioning motor module. This is mandatory equipment | As of the effective date of this AD | Follow Raytheon Aircraft Company Service Bulletin No. SB 21-3715, dated February 2005.
(3) Future Installations—Air Conditioning Compressor Motor Module: Do not install any compressor motor module, P/N 390-385026-0001 | As of the effective date of this AD | Not Applicable.

(g) What actions must I do to address this problem for Group 3 airplanes? To address this problem for Group 3 airplanes, you must do the following:

Actions | Compliance | Procedures
(1) Air Conditioning Compressor Motor Module EMI-RFI Filter Modification: Modify the air conditioning motor module EMI-RFI filter and reidentify the module part number with a P/N 390-385026-0003 module | Within 60 days after the effective date of this AD, unless already done | Follow Raytheon Aircraft Company Service Bulletin No. SB 21-3733, dated June 2005; and Enviro Systems Inc. Service Bulletin No. SB05-101, Revision B, dated April 27, 2005.
(2) Future Installations—Cover for Air Conditioner: You must only install a metal cover over the air conditioning motor module. This is mandatory equipment | As of the effective date of this AD | Follow Raytheon Aircraft Company Service Bulletin No. SB 21-3715, dated February 2005.
(3) Future Installations—Air Conditioning Compressor Motor Module: Do not install any compressor motor module, P/N 390-385026-0001 | As of the effective date of this AD | Not Applicable.

May I Request an Alternative Method of Compliance?

(h) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Philip Petty, Aerospace Engineer, ACE-119W, Wichita ACO, 1801 Airport Road, Room 100, Wichita, Kansas 67209; telephone: (316) 946-4139; facsimile: (316) 946-4107.

May I Get Copies of the Documents Referenced in This AD?

(i) To get copies of the documents referenced in this AD, contact Raytheon Aircraft Company, P.O. Box 85, Wichita, Kansas 67201-0085; telephone: (800) 625-7043. To view the AD docket, go to the Docket Management Facility; U.S. Department of Transportation, 400 Seventh Street, S.W., Nassif Building, Room PL-401, Washington, DC, or on the Internet at http://dms.dot.gov. The docket number is Docket No. FAA-2005-20712; Directorate Identifier 2005-CE-15-AD.

Issued in Kansas City, Missouri, on August 16, 2005.
Terry L. Chasteen,
Acting Manager, Small Airplane Directorate, Aircraft Certification Service.

[FR Doc. 05-16708 Filed 8-22-05; 8:45 am]

BILLING CODE 4910-13-P